ENVIRONMENTAL PROTECTION AGENCY

[E-DOCKET ID No. ORD-2004-0003; FRL-7829-7]

Draft Proposed Sampling Program To Determine Extent of World Trade Center Impacts to the Indoor Environment

AGENCY: Environmental Protection Agency.

ACTION: Notice of availability of external review draft and public comment period.

SUMMARY: This notice announces the availability of the External Review Draft entitled, Draft Proposed Sampling Program to Determine Extent of World Trade Center Impacts to the Indoor Environment (EPA/600/R-04/169A), and a 30-day public comment period. The document was prepared by the U.S. Environmental Protection Agency's Office of Research and Development and EPA's Region 2 office in New York City. EPA will consider the public comment submissions in revising the document.

DATES: The 30-day public comment period begins October 21, 2004, and ends November 19, 2004. Technical comments should be in writing and must be postmarked by November 19, 2004.

ADDRESSES: The External Review Draft, Draft Proposed Sampling Program to Determine Extent of World Trade Center Impacts to the Indoor Environment, is available via the Internet on the Web page of the World Trade Center (WTC) Expert Technical Review Panel, http://www.epa.gov/wtc/panel/. Comments may be submitted electronically, by mail, by facsimile or by hand delivery/courier. Please follow the detailed instructions as provided in the SUPPLEMENTARY INFORMATION section below.

FOR FURTHER INFORMATION CONTACT: For further information on the draft sampling proposal, please contact Matthew Lorber at (202) 564-3243 or lorber.matthew@epa.gov. For further information regarding the WTC Expert Technical Review Panel, please contact Lisa Matthews at (202) 564-6669 or matthews.lisa@epa.gov.

SUPPLEMENTARY INFORMATION:

1. Background Information

Immediately following the September 11, 2001, terrorist attack on New York City's World Trade Center, many Federal agencies, including the EPA, were called upon to focus their technical and scientific expertise on the national emergency. EPA, other Federal agencies, New York City and New York State public health and environmental authorities focused on numerous cleanup, dust collection and ambient air monitoring activities to ameliorate and better understand the human health impacts of the disaster. Detailed information concerning the environmental monitoring activities that were conducted as part of this response is available at the EPA Response to 9-11 Web site at http://www.epa.gov/wtc/.

In addition to environmental monitoring, EPA efforts also included toxicity testing of the dust on laboratory mice, as well as the development of a human exposure and health risk assessment. This risk assessment document, Exposure and Human Health Evaluation of Airborne Pollution from the World Trade Center Disaster (http://www.epa.gov/ncea/wtc.htm), has been subjected to public comment and expert peer review and is currently undergoing revisions prior to finalization. Numerous additional studies by other Federal and State agencies, universities and other organizations have documented impacts to both the outdoor and indoor environments and to human health.

While these monitoring and assessment activities were ongoing and the cleanup at Ground Zero itself was occurring, EPA began planning for a program to clean and monitor residential apartments. From June until December 2002, residents impacted by WTC dust and debris in an area of about 1 mile by 1 mile south of Canal Street were eligible to request federally funded cleaning and monitoring for airborne asbestos or only monitoring of their residences. The cleanup continued into the summer of 2003, by which time EPA had cleaned and monitored 3,400 apartments and monitored an additional 800 apartments. Detailed information on this portion of the EPA response is also available at http://www.epa.gov/wtc/.

A critical component of understanding long-term human health impacts is the establishment of health registries. The WTC Health Registry is a comprehensive and confidential health survey of those most directly exposed to the contamination resulting from the collapse of the WTC towers. It is intended to give health professionals a better picture of the health consequences of 9/11. It was established by the Agency for Toxic Substances and Disease Registry (ATSDR) and the New York City Department of Health and Mental Hygiene (NYCDHMH), in cooperation with a number of academic institutions, public agencies and community groups. Detailed information about the registry can be obtained from the registry Web site at: http://www.nyc.gov/html/doh/html/wtc/index.html.

In order to obtain individual advice on the effectiveness of these programs, unmet needs and data gaps, EPA has convened a technical panel of experts who have been involved with WTC assessment activities. Dr. Paul Gilman, EPA Science Advisor, serves as Chair of the panel, and Dr. Paul Lioy, Professor of Environmental and Community Medicine at the Environmental and Occupational Health Sciences Institute of the Robert Wood Johnson Medical School—UMDNJ and Rutgers University, serves as Vice Chair. A full list of the panel members and a charge statement and operating principles for the panel are available from the panel Web site listed above. Panel members will provide individual advice on issues the panel addresses. Panel meetings will occur in New York City and nearby locations. All of the meetings will be announced on the Web site and by a Federal Register notice, and they will be open to the public for attendance and also to provide brief oral comment.

The WTC Expert Panel has met seven times as of the date of this notice. Mostly, panel members have addressed the development of a design for a sampling program to determine the geographic extent of WTC impacts to the indoor environment. For the last two meetings, there have also been presentations and discussions on studies, either underway or completed, which have addressed human health impacts resulting from the collapse of the WTC towers.

Changes will be made to the Draft Proposed Sampling Program to Determine Extent of World Trade Center Impacts to the Indoor Environment based on comments received as a result of this notice. A final sampling program document will then be posted on the WTC Expert Panel's Web site.

2. How to Submit Information to E-Docket

EPA has established an official public docket for information pertaining to this action, Docket ID No. ORD-2004-0003. The official public docket is the collection of materials, excluding Confidential Business Information (CBI) or other information whose disclosure is restricted by statute, that is available for public viewing at the Office of Environmental Information (OEI) Docket in the Headquarters EPA Docket Center (EPA/DC), EPA West Building, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752; facsimile: (202) 566-1753; or e-mail: ORD.Docket@epa.gov.

An electronic version of the official public docket is available through EPA's electronic public docket and comment system, EPA Dockets. You may use EPA Dockets at http://www.epa.gov/edocket/ to submit or view public comments, to access the index listing of the contents of the official public docket, and to view those documents in the public docket that are available electronically. Once in the system, select “search,” then key in the appropriate docket identification number.

Certain types of information will not be placed in EPA Dockets. As indicated above, information claimed as CBI and other information whose disclosure is restricted by statute is not included in the official public docket; the same information will not be available for public viewing in EPA Dockets. Copyrighted material also will not be placed in EPA Dockets but will be referenced there and available as printed material in the official public docket.

Persons submitting information should note that EPA's policy makes the information available as received and at no charge for public viewing in EPA Dockets. This policy applies to information submitted electronically or in paper, except where restricted by copyright, CBI or statute.

Unless restricted as above, information submitted on computer disks that are mailed or delivered to the docket will be transferred to EPA Dockets. Physical objects will be photographed, where practical, and the photograph will be placed in EPA Dockets along with a brief description written by the docket staff.

You may submit information electronically, by mail, by facsimile or by hand delivery/courier. To ensure proper receipt by EPA, include the appropriate docket identification number with your submission. Please adhere to the specified submitting period. Information received or submitted past the close date will be marked “late” and will only be considered if time permits.

If you submit information electronically, EPA recommends that you include your name, mailing address, and an e-mail address or other details for contacting you. Also include these contact details on the outside of any disk or CD ROM you submit and in any cover letter accompanying the disk or CD ROM. This ensures that you can be identified as the person submitting the information and allows EPA to contact you in case the Agency cannot read what you submit due to technical difficulties or needs to clarify issues raised by what you submit. If EPA cannot read what you submit due to technical difficulties and cannot contact you for clarification, this situation may delay or prevent the Agency's consideration of the information.

To access EPA's electronic public docket from the EPA Internet Home Page, select “Information Sources,” “Dockets,” and “EPA Dockets.” Once in the system, select “search,” and then key in Docket ID No. ORD-2004-0003. The system is an “anonymous access” system, which means EPA will not know your identity, e-mail address or other contact details unless you provide it with the information you submit.

Information may be sent by electronic mail (e-mail) to ORD.Docket@epa.gov, Attention Docket ID No. ORD-2004-0003. In contrast to EPA's electronic public docket, EPA's e-mail system is not an “anonymous access” system. If you send an e-mail directly to the docket without going through EPA's electronic public docket, EPA's e-mail system automatically captures your e-mail address, and it becomes part of the information in the official public docket and is made available in EPA's electronic public docket.

You may submit information on a disk or CD ROM that you mail to the OEI Docket mailing address. Files will be accepted in WordPerfect, Word or ASCII file format. Avoid the use of special characters and any form of encryption.

If you provide information in writing, please submit one unbound original, with pages numbered consecutively, and three copies. For attachments, provide an index, number pages consecutively with the main text, and submit an unbound original and three copies.

Dated: October 18, 2004.
Paul Gilman,
EPA Science Advisor and Assistant Administrator for Research and Development.

[FR Doc. 04-23581 Filed 10-20-04; 8:45 am]

BILLING CODE 6560-50-P